DEPARTMENT OF THE INTERIOR

Bureau of Land Management

[NM-923-06-5870-HN]

Request for Public Nomination of Qualified Properties for Potential Purchase by the Federal Government in the State of New Mexico

AGENCY: Bureau of Land Management, Interior.

ACTION: Notice of request for public nomination of qualified properties for potential purchase by the Federal Government in the State of New Mexico.

SUMMARY: In accordance with the Federal Land Transaction Facilitation Act of 2000 (43 U.S.C. 2303) (FLTFA), this Notice provides the public the opportunity to nominate lands within the State of New Mexico for possible acquisition by the Federal agencies identified below. Such lands must be (1) Inholdings within a federally-designated area or (2) lands that are adjacent to federally-designated areas and contain exceptional resource values.

DATES: Nominations may be submitted at any time following the publication of this Notice.

ADDRESSES: Nominations should be mailed to the attention of the FLTFA Program Manager for the agency listed below having jurisdiction over the adjacent federally-designated area:

• Bureau of Land Management, New Mexico State Office (NM-923), P.O. Box 27115, Santa Fe, New Mexico 87502-0115.

• National Park Service, Intermountain Region, P.O. Box 728, Santa Fe, New Mexico 87504-0728.

• U.S. Fish and Wildlife Service, Region 2, P.O. Box 1306, Albuquerque, New Mexico 87102.

• USDA Forest Service, Southwest Region 3, 333 Broadway SE., Albuquerque, New Mexico 87102.

FOR FURTHER INFORMATION CONTACT: Debby Lucero, FLTFA Program Manager, Bureau of Land Management (BLM), New Mexico State Office (NM-932), P.O. Box 27115, Santa Fe, New Mexico 87502-0115, or e-mail dlucero@nm.blm.gov.

SUPPLEMENTARY INFORMATION: In accordance with the FLTFA, the four agencies noted above are offering to the public at large the opportunity to nominate lands in the State of New Mexico that meet FLTFA eligibility requirements for possible Federal acquisition. Under the provisions of FLTFA, only the following lands are eligible for nomination: (1) Inholdings within a federally-designated area, or (2) lands that are adjacent to federally-designated areas and contain exceptional resource values.

An inholding is any right, title, or interest held by a non-Federal entity, in or to a tract of land that lies within the boundary of a federally-designated area.

A federally-designated area is land that on July 25, 2000, was within the boundary of: a unit of the National Park System; a unit of the National Wildlife Refuge System; an area of the National Forest System designated for special management; a national monument, national conservation area, national riparian conservation area, national recreation area, national scenic area, research natural area, national outstanding natural area, national natural landmark, or an area of critical environmental concern managed by the BLM; a wilderness or wilderness study area; or a component of the Wild and Scenic Rivers System or National Trails Systems. If you are not sure whether a particular area meets the statutory definition of a federally-designated area in FLTFA, you should consult the statute or contact the BLM at the above address.

An exceptional resource refers to a resource of scientific, natural, historic, cultural, or recreational value that has been documented by a Federal, State, or local government authority, and for which there is a compelling need for conservation and protection under the jurisdiction of a Federal agency to maintain the resource for the benefit of the public.

Nominations meeting the above criteria may be submitted by any individual, group, or governmental body. If submitted by a party other than the landowner, the landowner must also sign the nomination to confirm their willingness to sell. Pursuant to FLTFA, nominations will only be considered eligible by the agencies if: (1) The nomination package is complete; (2) acquisition of the nominated land or interest in land would be consistent with an agency-approved land use plan; (3) the land does not contain a hazardous substance and is not otherwise contaminated and would not be difficult or uneconomic to manage as Federal lands; and (4) acceptable title can be conveyed in accordance with Federal title standards. Priority will be placed on nominations for areas where there is no local or tribal government objection to Federal acquisition. Nominations may be made at any time following publication of this Notice and will continue to be accepted for consideration during the life of the FLTFA, which ends on July 24, 2010, unless extended by Act of Congress.

Nominations may be made on forms available from the BLM at the above address. Request for the forms may also be made by telephone, e-mail, or U.S. Postal Service mail.

The agencies will assess the nominations for public benefit and rank the nominations in accordance with the jointly prepared State-level New Mexico Interagency Implementation Agreement and the National-level Memorandum of Understanding among the agencies. The nomination and identification of an inholding does not obligate the landowner to convey the property nor does it obligate the United States to acquire the property.

All Federal land acquisitions must be made at fair market value established by applicable provisions of the Uniform Appraisal Standards for Federal Land Acquisitions.

Further information, including the required contents of a nomination package and details of the New Mexico Interagency Implementation Agreement, may be obtained by contacting Debby Lucero at the aforementioned address and phone number.

Dated: September 8, 2006.
Jesse J. Juen,
Acting State Director.

[FR Doc. E6-15244 Filed 9-13-06; 8:45 am]

BILLING CODE 4310-FB-P